DEPARTMENT OF JUSTICE

Drug Enforcement Administration

Agency Information Collection Activities: Proposed Collection; Comment Request

ACTION: Notice of information collection under review; new collection; notice of intent to operate a freight forwarding facility.

The Department of Justice, Office of Drug Enforcement Administration, has submitted the following information collection request to the Office of Management and Budget (OMB) for review and clearance in accordance with emergency review procedures of the Paperwork Reduction Act of 1995. OMB approval has been requested by January 28, 2000. The proposed information collection is published to obtain comments from the public and affected agencies. If granted, the emergency approval is only valid for 180 days. Comments should be directed to OMB, Office of Information Regulation Affairs, Attention: Department of Justice Desk Officer (202) 395-3122, Washington, DC 20530.

If you have additional comments, suggestions, or need a copy of the proposed information collection instrument with instructions, if applicable, or additional information, please contact Patricia Good, Chief, Liaison and Policy Section, Office of Diversion Control, Drug Enforcement Administration, Washington, DC 20537, Telephone (202) 307-7297.

Written comments and suggestions from the public and affected agencies concerning the proposed collection of information should address one or more of the following four points:

(1) Evaluate whether the proposed collection of information is necessary for the proper performance of the functions of the agency including whether the information will have practical utility;

(2) Evaluate the accuracy of the agency's estimate of the burden of the proposed collection of the information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: New collection.

(2) The title of the form/collection: Notice of Intent to Operate a Freight Forwarding Facility.

(3) The agency form number, if any, and the applicable component of the Department sponsoring the collection: Form No.: None.

Applicable component of the Department sponsoring the collection: Office of Diversion Control, Drug Enforcement Administration, U.S. Department of Justice.

(4) Affected public who will be asked or required to respond, as well as a brief abstract: Primary: Business or other for-profit. Other: None.

Abstract: The collection of this information is necessary to maintain a closed system of distribution of controlled substances by requiring notification from DEA registrants of their intention to operate a freight forwarding facility through which sealed, packaged controlled substances in unmarked shipping containers are, in the course of delivery to customers, transferred or stored for less than 24 hours. The notice details the registered locations that will utilize the facility, the location of the facility, the hours of operation, the individual(s) responsible for the controlled substances, and the security and record keeping procedures that will be employed. The notice must also detail what state licensing requirements apply to the facility and the registrant's actions to comply with any such requirements. Persons providing such notice and operating within the regulations will not be required to obtain a separate DEA registration for the facility.

(5) An estimate of the total number of respondents and the amount of time estimated for an average respondent to respond/reply: 50 respondents. 50 responses per year × 2 hours per response = 100 hours.

(6) An estimate of the total public burden (in hours) associated with the collection: 100 annual burden hours.

If additional information is required contact: Mrs. Brenda E. Dyer, Deputy Clearance Officer, United States Department of Justice, Information Management and Security Staff, Justice Management Division, Suite 1221, National Place Building, 1331 Pennsylvania Ave., NW, Washington, DC 20530.

Dated: January 12, 2000.
Brenda E. Dyer,
Department Deputy Clearance Officer, United States Department of Justice.

[FR Doc. 00-1154 Filed 1-18-00; 8:45 am]

BILLING CODE 4410-09-M